CONSUMER PRODUCT SAFETY COMMISSION

Sunshine Act Meetings Notice

TIME AND DATE: Wednesday, October 19, 2016, 9:30 a.m.-11:30 a.m. and 1:30 p.m.-3:30 p.m.

PLACE: Hearing Room 420, Bethesda Towers, 4330 East West Highway, Bethesda, Maryland.

STATUS: Commission Meeting—Open to the Public.

Matters To Be Considered

Decisional Matter: Fiscal Year 2017 Operating Plan (9:30 a.m.-11:30 a.m.)

Briefing Matter: Portable Generators—Notice of Proposed Rulemaking (1:30 p.m.-3:30 p.m.)

A live webcast of the Meeting can be viewed at www.cpsc.gov/live.

CONTACT PERSON FOR MORE INFORMATION: Todd A. Stevenson, Office of the Secretary, U.S. Consumer Product Safety Commission, 4330 East West Highway, Bethesda, MD 20814, (301) 504-7923.

Dated: October 11, 2016.
Todd A. Stevenson,
Secretary.

[FR Doc. 2016-24941 Filed 10-11-16; 4:15 pm]

BILLING CODE 6355-01-P